DEPARTMENT OF HOMELAND SECURITY

Coast Guard

[USCG-2014-1077]

Area Maritime Security Advisory Committee (AMSC) Western Florida

AGENCY: Coast Guard, DHS.

ACTION: Solicitation for membership.

SUMMARY: This notice requests individuals interested in serving on the AMSC Western Florida (AMSC-WF) submit their applications for membership to the Captain of the Port (COTP) St. Petersburg, Florida.

DATES: Requests for membership should reach the U.S. Coast Guard COTP St. Petersburg, Florida no later than 1 March 2015.

ADDRESSES: Applications for membership should be submitted to the Captain of the Port at the following address: c/o AMSC Secretary, 155 Columbia Drive, Tampa, Florida 33606.

FOR FURTHER INFORMATION CONTACT: For questions about submitting an application or about the AMSC in general, contact Mr. Edmond Morris at (813) 228-2191 extension 8108.

SUPPLEMENTARY INFORMATION: Authority. Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these AMSCs from the Federal Advisory Committee Act (FACA), Public Law 92-436, 86 Stat. 470(5 U.S.C. App.2). The AMSCs shall assist the Captain of the Port in the development, review, update, and exercising of the AMS Plan for their area of responsibility. Such matters may include, but are not limited to: Identifying critical port infrastructure and operations; Identifying risks (threats, vulnerabilities, and consequences); Determining mitigation strategies and implementation methods; Developing strategies to facilitate the recovery of the Maritime Transportation System (MTS) after a Transportation Security Incident; Developing and describing the process to continually evaluate overall port security by considering consequences and vulnerabilities, how they may change over time, and what additional mitigation strategies can be applied; and Providing advice to, and assisting the Captain of the Port in developing and maintaining the Area Maritime Security Plan.

AMSC Membership: Members of the AMSC should have at least five years of experience related to maritime or port security operations. The St. Petersburg AMSC has seven appointed members in each of two geographic subdivisions. We are seeking to fill all fourteen appointed vacancies with this solicitation. Applicants may be required to pass an appropriate security background check prior to appointment to the committee. Members' terms of office will be for five years; however, a member is eligible to serve additional terms of office. Members will not receive any salary or other compensation for their service on an AMSC. In support of the USCG policy on gender and ethnic diversity, we encourage qualified women and members of minority groups to apply.

Request for Applications: Those seeking membership are not required to submit formal applications to the local Captain of the Port, however, because we do have an obligation to ensure that a specific number of members have the prerequisite maritime security experience, we encourage the submission of resumes highlighting experience in the maritime and security industries.

Dated: January 7, 2015.
Gregory D. Case,
Captain, U.S. Coast Guard, Captain of the Port/Federal Maritime Security Coordinator, St. Petersburg, Florida.

[FR Doc. 2015-01335 Filed 1-23-15; 8:45 am]

BILLING CODE 9110-04-P